DEPARTMENT OF ENERGY

Federal Energy Regulatory Commission

Combined Notice of Filings #2

Take notice that the Commission received the following electric rate filings:

Docket Numbers: ER10-1529-004.

Applicants: Northern Iowa Windpower, LLC.

Description: Triennial Report of Northern Iowa Windpower, LLC.

Filed Date: 7/2/18.

Accession Number: 20180702-5298.

Comments Due: 5 p.m. ET 8/31/18

Docket Numbers: ER10-1836-010; ER10-1841-010; ER10-1843-010; ER10-1844-010; ER10-1845-010; ER10-1852-019; ER10-1897-010; ER10-1905-010; ER10-1907-009; ER10-1918-010; ER10-1925-010; ER10-1927-010; ER10-1950-010; ER10-1964-010; ER10-1965-010; ER10-1970-010; ER10-1972-010; ER10-1983-010; ER10-1984-010; ER10-1991-011; ER10-2005-010; ER10-2006-011; ER10-2078-011; ER10-2551-008; ER11-26-010; ER11-4462-028; ER12-1660-010; ER13-2458-005; ER13-2461-005; ER16-1872-001; ER16-2506-002; ER17-2270-002; ER17-838-003.

Applicants: Ashtabula Wind, LLC, Ashtabula Wind II, LLC, Ashtabula Wind III, LLC, Baldwin Wind, LLC, Butler Ridge Wind Energy Center, LLC, Crystal Lake Wind, LLC, Crystal Lake Wind II, LLC, Crystal Lake Wind III, LLC, Florida Power & Light Company, FPL Energy Hancock County Wind, LLC, FPL Energy Mower County, LLC, FPL Energy North Dakota Wind, LLC, FPL Energy North Dakota Wind II, LLC, FPL Energy Oliver Wind I, LLC, FPL Energy Oliver Wind II, LLC, Garden Wind, LLC, Hawkeye Power Partners, LLC, Lake Benton Power Partners II, LLC, Langdon Wind, LLC, Marshall Solar, LLC, NextEra Energy Duane Arnold, LLC, NextEra Energy Point Beach, LLC, NextEra Energy Marketing, LLC, NEPM II, LLC, Oliver Wind III, LLC, Osceola Windpower, LLC, Osceola Windpower II, LLC, Pheasant Run Wind, LLC, Story Wind, LLC, Stuttgart Solar, LLC, Tuscola Bay Wind, LLC, Tuscola Wind II, LLC, White Oak Energy LLC.

Description: Central Region Triennial Market Power Update of the NextEra Companies.

Filed Date: 7/2/18.

Accession Number: 20180702-5297.

Comments Due: 5 p.m. ET 8/31/18.

Docket Numbers: ER10-2042-027;ER10-1862-021; ER10-1863-005; ER10-1893-021; ER10-1933-004; ER10-1934-021; ER10-1938-022; ER10-1942-019; ER10-1945-007; ER10-2985-025; ER10-3049-026; ER10-3051-026; ER11-4369-006; ER16-2218-006; ER17-696-007.

Applicants: Calpine Energy Services, L.P., Auburndale Peaker Energy Center, LLC, Calpine Construction Finance Company, L.P., Calpine Energy Solutions, LLC, Calpine Power America—CA, LLC, CES Marketing IX, LLC, CES Marketing X, LLC, Champion Energy, LLC, Champion Energy Marketing LLC, Champion Energy Services, LLC, North American Power and Gas, LLC, North American Power Business, LLC, Pine Bluff Energy, LLC, Power Contract Financing, L.L.C., RockGen Energy, LLC.

Description: Updated Market Power Analysis of the Calpine Central MBR Sellers.

Filed Date: 7/2/18.

Accession Number: 20180702-5292.

Comments Due: 5 p.m. ET 8/31/18.

Docket Numbers: ER10-2822-013; ER12-2076-006; ER12-2077-006; ER12-2078-006; ER12-2081-006; ER12-2083-006; ER12-2084-006; ER12-2086-006; ER12-2097-006; ER12-2101-006; ER12-2102-007; ER12-2106-006; ER12-2107-006; ER12-2108-006; ER12-2109-006; ER16-1250 005.

Applicants: Atlantic Renewable Projects II LLC, Avangrid Renewables, LLC, Barton Windpower LLC, Buffalo Ridge I LLC, Buffalo Ridge II LLC, Elm Creek Wind, LLC, Elm Creek Wind II LLC, Farmers City Wind, LLC, Flying Cloud Power Partners, LLC, MinnDakota Wind LLC, Moraine Wind LLC, Moraine Wind II LLC, New Harvest Wind Project LLC, Northern Iowa Windpower II LLC, Rugby Wind LLC, Trimont Wind I LLC.

Description: Updated Market Power Analysis of the Avangrid Central MBR Sellers.

Filed Date: 7/2/18.

Accession Number: 20180702-5296.

Comments Due: 5 p.m. ET 8/31/18.

Docket Numbers: ER17-194-002.

Applicants: Hartree Partners, LP.

Description: Notice of Non-Material Change in Status of Hartree Partners, LP.

Filed Date: 7/2/18.

Accession Number: 20180702-5291.

Comments Due: 5 p.m. ET 7/23/18.

Docket Numbers: ER12-1179-026.

Applicants: Southwest Power Pool, Inc.

Description: Compliance filing: Order No. 745 Compliance Filing in Response to June 2018 Order to be effective 6/5/2018.

Filed Date: 7/3/18.

Accession Number: 20180703-5090.

Comments Due: 5 p.m. ET 7/24/18.

Docket Numbers: ER18-1943-000.

Applicants: Georgia Power Company.

Description: § 205(d) Rate Filing: Transition Services Agreement Filing to be effective 12/31/9998.

Filed Date: 7/3/18.

Accession Number: 20180703-5062.

Comments Due: 5 p.m. ET 7/24/18.

Docket Numbers: ER18-1944-000.

Applicants: Mississippi Power Company.

Description: § 205(d) Rate Filing: Transition Services Agreement Filing to be effective 12/31/9998.

Filed Date: 7/3/18.

Accession Number: 20180703-5066.

Comments Due: 5 p.m. ET 7/24/18.

Docket Numbers: ER18-1945-000.

Applicants: Alabama Power Company.

Description: § 205(d) Rate Filing: Amendment of Southern's Tariff Volume No. 4 Relating to Sale of Gulf Power to be effective 12/31/9998.

Filed Date: 7/3/18.

Accession Number: 20180703-5075.

Comments Due: 5 p.m. ET 7/24/18.

Docket Numbers: ER18-1946-000.

Applicants: American Transmission Systems, Incorporated, PJM Interconnection, L.L.C.

Description: § 205(d) Rate Filing: ATSI submits Revised Interconnection Agreements SA Nos. 3994 and 3995 to be effective 9/1/2018.

Filed Date: 7/3/18.

Accession Number: 20180703-5076.

Comments Due: 5 p.m. ET 7/24/18.

Docket Numbers: ER18-1947-000.

Applicants: Alabama Power Company.

Description: § 205(d) Rate Filing: Southern Company System Intercompany Interchange Contact Amendment Filing to be effective 9/24/2010.

Filed Date: 7/3/18.

Accession Number: 20180703-5077.

Comments Due: 5 p.m. ET 7/24/18.

Docket Numbers: ER18-1948-000.

Applicants: Georgia Power Company.

Description: § 205(d) Rate Filing: Southern Company System Intercompany Interchange Contract Amendment Filing to be effective 9/24/2010.

Filed Date: 7/3/18.

Accession Number: 20180703-5078.

Comments Due: 5 p.m. ET 7/24/18.

Docket Numbers: ER18-1949-000.

Applicants: Gulf Power Company.

Description: § 205(d) Rate Filing: Southern Company Intercompany Interchange Contract Amendment Filing to be effective 9/24/2010.

Filed Date: 7/3/18.

Accession Number: 20180703-5079.

Comments Due: 5 p.m. ET 7/24/18.

Docket Numbers: ER18-1950-000.

Applicants: Mississippi Power Company.

Description: § 205(d) Rate Filing: Southern Company System Intercompany Interchange Contract Amendment Filing to be effective 9/24/2010.

Filed Date: 7/3/18.

Accession Number: 20180703-5080.

Comments Due: 5 p.m. ET 7/24/18.

Docket Numbers: ER18-1951-000.

Applicants: Southern Power Company.

Description: § 205(d) Rate Filing: Southern Company System Intercompany Interchange Contract Amendment to be effective 9/24/2010.

Filed Date: 7/3/18.

Accession Number: 20180703-5082.

Comments Due: 5 p.m. ET 7/24/18.

Docket Numbers: ER18-1952-000.

Applicants: Gulf Power Company.

Description: Baseline eTariff Filing: Gulf Power Company Market-Based Rate Filing to be effective 7/5/2018.

Filed Date: 7/3/18.

Accession Number: 20180703-5083.

Comments Due: 5 p.m. ET 7/24/18.

Docket Numbers: ER18-1953-000.

Applicants: Gulf Power Company.

Description: Baseline eTariff Filing: Baseline OATT to be effective 7/5/2018.

Filed Date: 7/3/18.

Accession Number: 20180703-5086.

Comments Due: 5 p.m. ET 7/24/18.

Docket Numbers: ER18-1954-000.

Applicants: Gulf Power Company.

Description: Baseline eTariff Filing: Southern Companies NITSA to be effective 7/5/2018.

Filed Date: 7/3/18.

Accession Number: 20180703-5087.

Comments Due: 5 p.m. ET 7/24/18.

Docket Numbers: ER18-1955-000.

Applicants: South Central MCN LLC.

Description: § 205(d) Rate Filing: SCMCN DX ADIT True-Up Revisions to be effective 10/1/2018.

Filed Date: 7/3/18.

Accession Number: 20180703-5088.

Comments Due: 5 p.m. ET 7/24/18.

Docket Numbers: ER18-1956-000.

Applicants: American Transmission Systems, Incorporated, PJM Interconnection, L.L.C.

Description: § 205(d) Rate Filing: ATSI submits Interconnection Agreements SA Nos. 3992 and 3993 and ECSA No. 4975 to be effective 9/1/2018.

Filed Date: 7/3/18.

Accession Number: 20180703-5089.

Comments Due: 5 p.m. ET 7/24/18.

Docket Numbers: ER18-1957-000.

Applicants: Tracel Energy Marketing Limited Partnership.

Description: Baseline eTariff Filing: Baseline new to be effective 8/15/2018.

Filed Date: 7/3/18.

Accession Number: 20180703-5113.

Comments Due: 5 p.m. ET 7/24/18.

Docket Numbers: ER18-1958-000.

Applicants: Appalachian Power Company.

Description: § 205(d) Rate Filing: OATT—Revise Attachment K, AEP Texas Inc. Rate Update to be effective 12/31/9998.

Filed Date: 7/3/18.

Accession Number: 20180703-5139.

Comments Due: 5 p.m. ET 7/24/18.

Docket Numbers: ER18-1959-000.

Applicants: Midcontinent Independent System Operator, Inc.

Description: § 205(d) Rate Filing: 2018-07-03_SA 2677 GRE-NSP 3rd Rev GIA (J278) to be effective 6/21/2018.

Filed Date: 7/3/18.

Accession Number: 20180703-5144.

Comments Due: 5 p.m. ET 7/24/18.

Docket Numbers: ER18-1960-000.

Applicants: Tenaska Pennsylvania Partners, LLC.

Description: Baseline eTariff Filing: Application for Market-Based Rate Authorization and Request for Waivers to be effective 7/4/2018.

Filed Date: 7/3/18.

Accession Number: 20180703-5146.

Comments Due: 5 p.m. ET 7/24/18.

Take notice that the Commission received the following electric securities filings:

Docket Numbers: ES18-44-000.

Applicants: Ameren Illinois Company.

Description: Application of Ameren Illinois Company for Short-Term Financing Authority.

Filed Date: 7/2/18.

Accession Number: 20180702-5293.

Comments Due: 5 p.m. ET 7/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2018.
Nathaniel J. Davis, Sr.,
Deputy Secretary.

[FR Doc. 2018-14710 Filed 7-9-18; 8:45 am]

BILLING CODE 6717-01-P